INTERNATIONAL TRADE COMMISSION

[Inv. No. 337-TA-640]

In the Matter of: Certain Short-Wavelength Light Emitting Diodes, Laser Diodes and Products Containing Same; Notice of Investigation

AGENCY: U.S. International Trade Commission.

ACTION: Institution of investigation pursuant to 19 U.S.C. 1337.

SUMMARY: Notice is hereby given that a complaint was filed with the U.S. International Trade Commission on February 20, 2008, under section 337 of the Tariff Act of 1930, as amended, 19 U.S.C. 1337, on behalf of Gertrude Neumark Rothschild of Hartsdale, New York. Letters supplementing the complaint were filed on March 11 (two letters), 12, and 14, 2008. The complaint alleges violations of section 337 based upon the importation into the United States, the sale for importation, and the sale within the United States after importation of certain short-wavelength light emitting diodes, laser diodes and products containing same that infringe certain claims of U.S. Patent No. 5,252,499. The complaint further alleges that an industry in the United States exists as required by subsection (a)(2) of section 337.

The complainant requests that the Commission institute an investigation and, after the investigation, issue exclusion orders and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at: http://www.usitc.gov. The public record for this investigation may be viewed on the Commission's electronic docket (EDIS) at: http://edis.usitc.gov.

FOR FURTHER INFORMATION CONTACT: Jeffrey T. Hsu, Esq., Office of Unfair Import Investigations, U.S. International Trade Commission, telephone (202) 205-2579.

Authority: The authority for institution of this investigation is contained in section 337 of the Tariff Act of 1930, as amended, and in section 210.10 of the Commission's Rules of Practice and Procedure, 19 CFR 210.10 (2007).

Scope of Investigation: Having considered the complaint, the U.S. International Trade Commission, on March 18, 2008, ordered that—

(1) Pursuant to subsection (b) of section 337 of the Tariff Act of 1930, as amended, an investigation be instituted to determine whether there is a violation of subsection (a)(1)(B) of section 337 in the importation into the United States, the sale for importation, or the sale within the United States after importation of certain short-wavelength light emitting diodes, laser diodes or products containing same that infringe one or more of claims 10, 12, 13, and 16 of U.S. Patent No. 5,252,499, and whether an industry in the United States exists as required by subsection (a)(2) of section 337;

(2) For the purpose of the investigation so instituted, the following are hereby named as parties upon which this notice of investigation shall be served:

(a) The complainant is—Gertrude Neumark Rothschild, 153 Old Colony Road, Hartsdale, New York 10530-3609.

(b) The respondents are the following entities alleged to be in violation of section 337, and are the parties upon which the complaint is to be served:

Avago Technologies, No. 1 Yishun Avenue 7, Singapore 768923.

Bacol Optoelectronic Co. Ltd., 2F, No. 760, Chung Cheng Road, Chung Ho City, Taipei 235, Taiwan.

Dominant Semiconductor Sdn. Bhd., Lot 6, Batu Berendam, FTZ Phase III, 75350, Melaka, Malaysia.

Everlight Electronics Co., Ltd., 25, Lane 76, Sec. 3, Chung Yang Road, TuCheng, Taipei 236, Taiwan.

Exceed Perseverance Electronic Ind. Co., Ltd., Room 606, Unit 3, Building 14, Jiuzhou Garden, Longyuan Road, Longgang District, Shenzhen, Guangdong, China, 518116.

Guangzhou Hongli Opto-Electronic Co., Ltd., West Side of Dongfeng Highway, Auto City, Huadu District, Guangzhou, China.

Harvatek International Inc., No. 18, Lane 522, Chung Hwa Road, Sec. 5, Hsin Chu, Taiwan.

Hitachi, Ltd., 6-6, Marunouchi 1-chome, Chiyoda-ku, Tokyo 100-8280, Japan.

Kingbright Electronic Co., Ltd., 3F, No. 317-1, Chung Shan Road, Sec. 2, Chung Ho, Taipei Hsien, Taipei 235, Taiwan.

LG Electronics, LG Twin Towers 20, Yoido-dong, Youngdungpo-gu, Seoul, 150-721, Korea.

Lite-On Technology Corp., 90, Chien I Road, Chung Ho, Taipei Hsien, Taiwan.

Lucky Light Electronics Co., Ltd., Unit E & F, 15/F, Cooperative Finance Building, Shennan East Road, Louhu District, Shenzhen, China.

Matsushita Electric Industrial Co., Ltd., 1006, Kadoma, Kadoma City, Osaka 571-8501, Japan.

Motorola, Inc., 1303 East Algonquin Road, Schaumburg, Illinois 60196.

Nokia, P.O. Box 226, FI-00045 Nokia Group, Finland.

Opto Tech Corporation, No. 8, Innovation Road I, Hsinchu Science-based Industrial Park, Hsinchu, Taiwan.

Pioneer Corporation, 1-4-1 Meguro, Meguro-ku, Tokyo 153-8654, Japan.

Rohm Co., Ltd., 21, Saiin Mizosaki-cho, Ukyo-ku, Kyoto 615-8585, Japan.

Samsung Group, 250, 2-ga, Taepyung-ro, Jung-gu, Seoul, 100-742, Korea.

Sanyo Electric Co., Ltd., 5-5 Keihan-Hondori 2-Chome, Moriguchi City, Osaka 570-8677, Japan.

Seoul Semiconductor Co., Ltd., 148-29 Gasan-dong, Keumchun-gu, Seoul, Korea.

Sharp Corporation, 22-22 Nagaike-cho, Abeno-ku, Osaka 545-8522, Japan.

Shenzhen Unilight Electronic Co., Ltd., Tongfuyu Industrial Zone, Xinhe Village, Fuyong Town, Bao'an District, Shenzhen City, Guangdong Province, China.

Shinano Kenshi Co., Ltd., 1078, Kami-maruko, Ueda-shi, Nagano-ken, Japan.

Sony Corporation, 1-1-1 Konan, Minato-ku, Tokyo 108-0075, Japan.

Sony Ericsson Mobile Communications AB, Nya Vattentornet, SE-221 88 Lund, Sweden.

Stanley Electric Co., Ltd., 2-9-13, Nakameguro, Meguro-ku, Tokyo 153-8636, Japan.

Toshiba Corporation, 1-1, Shibaura 1-chome, Minato-ku, Tokyo 105-8001, Japan.

Vishay Intertechnology, Inc., 63 Lancaster Avenue, Malvern, Pennsylvania 19355.

Yellow Stone Corporation, No. 9, Lane 113, Chihyuan 2nd Road, Beitou District, Taipei, Taiwan.

(c) The Commission investigative attorney, party to this investigation, is Jeffrey T. Hsu, Esq., Office of Unfair Import Investigations, U.S. International Trade Commission, 500 E Street, SW., Suite 401, Washington, DC 20436; and

(3) For the investigation so instituted, the Honorable Paul J. Luckern is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: March 19, 2008.
Marilyn R. Abbott,
Secretary to the Commission.

[FR Doc. E8-5909 Filed 3-24-08; 8:45 am]

BILLING CODE 7020-02-P